DEPARTMENT OF HEALTH AND HUMAN SERVICES

Administration for Children and Families

Administration on Children, Youth and Families, Children's Bureau; Demonstration Projects in Post-Adoption Services and Marriage Education

Announcement Type: Competitive Grant-Initial.

Funding Opportunity Number: HHS-2004-ACF-ACYF-CO-0021.

CFDA Number: 93.652.

Due Date for Applications: The due date for receipt of applications is July 23, 2004.

I. Funding Opportunity Description

The purpose of this funding opportunity is to support continuous innovation and improvement in the quality of post-adoption services designed to improve outcomes for adopted children and their families. Funded projects will implement and evaluate post-adoption services which include a marriage education component.

These post-adoption demonstration projects will provide services to strengthen and preserve families who have adopted children from public child welfare systems. The services provided must add to, not take the place of services supported by any other funds available to the applicant for the same general services.

These projects will include implementation and evaluation of an articulated, specifiable program supporting marriage relationships targeting adoptive parents. The program must promote healthy marriage and family formation as a means of achieving safety, permanency, and well-being for adopted children and their families, particularly those in the child welfare system. By supporting adoptive couples through marriage strengthening services, parents are expected to be better able to meet the unique stresses of adopting a child. Marriage education services that are provided will work to strengthen and protect the well-being of both children and families.

The Children's Bureau is interested in projects that identify the needs of adoptive families and propose a feasible and appropriate plan for providing a wide range of services, including marriage education, to meet these needs. The proposed design must include marriage education. Additional services may include education and support for families and children, services to prevent adoption disruption, and crisis intervention. Services provided by the proposed project may include respite care, individual, group and/or family counseling, case management, and assistance to adoptive parents, adopted children, and siblings of adopted children.

All projects must be administered by agencies that have child welfare, adoption, post-adoption and marriage education experience. This includes organizations with expertise in child welfare and adoption, and organizations which currently serve children in the public child welfare system. Collaborative efforts and interdisciplinary approaches are acceptable. Applications from collaborations must identify a primary applicant responsible for administering the grants.

Background Information

According to 2003 estimates, the number of children in out-of-home care is approximately 534,000. Children entering substitute care have complex problems that require intensive services. Many of these children have special needs because they are born to mothers who did not receive prenatal care, are born with life-threatening conditions or disabilities, are born addicted to alcohol or other drugs, have been exposed to infection with the etiologic agent for the human immunodeficiency virus (HIV), or have been victims of child abuse and neglect. Each year thousands of children are in need of placement in a permanent home. Most of these children are difficult to place because they are older or may be part of a sibling group. Currently, there are approximately 126,000 children waiting for adoption.

Professionals in the adoption field have long realized that agency services to adoptive families should not end with the legalization of the adoption. These children and families still face many challenges in achieving adoption stability. The Adoption Opportunities program, section 205 of the Child Abuse Prevention and Treatment and Adoption Reform Act of 1978, (Pub. L. 95-266), as amended by the Keeping Children and Families Safe Act of 2003 (Pub. L. 108-36), authorizes funds to meet these needs.

Research and practice experience over the past two decades have shown that children once thought unadoptable can be placed in permanent homes, but not all children placed remain with their adoptive parents. Studies on adoption disruption indicate that children may have difficulty adjusting to their adoptive families due to the loss and trauma they experienced prior to placement; and psychological, emotional and behavioral problems may emerge over time as these children mature. Adoptive families also confront many challenges in addressing the needs of these children; therefore, these children and families have an on going, long-term need for services.

ACF has undertaken several crosscutting program and field activities to promote the national marriage and responsible fatherhood agenda, engaging States, communities, and faith-based organizations in a partnership with ACF. This priority area provides a unique opportunity to gather evidence about how communities can improve outcomes for adopted children and their families by strengthening marriage and promoting family life.

These demonstration grant activities will help spur new approaches that will promote child safety, stability, and well-being by strengthening the relationships between parents.

These programs will work to improve outcomes for adopted children and their families by working closely with adoptive parents to strengthen their relationship skills and improve the quality of family life. Along with the skills that enable couples to communicate more effectively, manage conflict, and work together as a team, these demonstration programs can also teach the benefits that can be obtained from identifying expected challenges in relationships so that these challenges can be successfully negotiated when they arise.

Marriage education is based on the premise that couples can learn how to build and maintain successful, stable marriages. One approach is based on research into what distinguishes marriages that succeed from those that fail. Research has found that it is not that successful couples have fewer differences or less to fight about, but rather that they are able to effectively handle their inevitable differences or disagreements.¹ Through marriage education couples can learn how to do more of what makes marriages successful and less of what causes marital unhappiness and breakdown. These projects will provide this opportunity to strengthen parenting/marital skills within a healthy and supportive relationship.

¹ “Predicting Marital Happiness and Stability from Newlywed Interactions”, Journal of Marriage and the Family; Minneapolis; Feb 1998; John M Gottman; James Coan; Sybil Carrere; Catherine Swanson.

Programs or specific elements of the proposed program must be based on and supported by evidence from research or evaluations of the programs. The programs proposed here may be refined from existing programs or fully replicated programs that may have targeted participants other than those identified here. The programs submitted in response to this competition should test the existing model with these participants and help the participants develop a set of particular, measurable, and definable skills. The partnership between the child welfare agency and the experienced marriage education service provider must be described as well.

This funding opportunity is intended to support projects that contribute to the continued expansion of knowledge about the familial and systemic aspects of successful adoptions, as well as the benefits of support for healthy marriages, responsible fatherhood, and positive youth development to successful adoptions. It is believed that the inclusion of faith-based and community organizations is important to developing and sustaining programs that support safety, permanency and well-being for children and families within urban and rural communities. Applicants are encouraged to develop projects that are highly innovative and demonstrate approaches that improve outcomes for adopted children and their families.

Note: Activities funded under this funding announcement are demonstration projects. At the Children's Bureau a demonstration project is one that puts into place and tests new, unique or distinctive approaches for delivering services to a specific population. Demonstration projects may test whether a program or service that has proven successful in one location or setting can work in a different context. Demonstration projects may test a theory, idea, or method that reflects a new and different way of thinking about service delivery. Demonstration projects may be designed to address the needs of a very specific group of clients, or focus on one service component available to all clients. The scope of these projects may be broad and comprehensive or narrow and targeted to specific populations. A demonstration project must:

(a) Develop and implement an evidence-based model with specific components or strategies that are based on theory, research, or evaluation data; or, replicate or test the transferability of successfully evaluated program models;

(b) Determine the effectiveness of the model and its components or strategies using multiple measures of results; and

(c) Produce detailed procedures and materials, based on the evaluation, that will contribute to and promote evidence-based strategies, practices and programs that may be used to guide replication or testing in other settings.

II. Award Information

Funding Instrument Type: Grant.

Anticipated Total Program Funding: The anticipated total funding for all awards under this funding opportunity in FY 2004 is $2 million.

Anticipated Number of Awards: It is anticipated that up to 7 projects will be funded.

Ceiling on Amount of Individual Awards: The grant amount will not exceed $300,000 in the first budget period. The Children's Bureau reserves the right to change this amount in subsequent budget periods. An application received that exceeds the upper value of the dollar range specified will be considered “non-responsive” and be returned to the applicant without further review.

Floor of Individual Award Amounts: None.

Average Anticipated Award Amount: $300,000 per budget period.

Project Periods for Awards: The projects will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

State controlled institutions of higher education

Native American tribal governments (Federally recognized)

Nonprofits having a 501(c)(3) status with the IRS, other than institutions of higher education

Non-profits that do not have 501(c)(3) status with the IRS, other than institutions of higher education

Private institutions of higher education

For-profit organizations other than small businesses

Small businesses

Faith-based organizations are eligible to apply for these grants.

Additional Information on Eligibility: Non-profit organizations, including community and faith-based organizations are eligible to apply. Non-profit applicants must demonstrate proof of their status and this proof must be included in their applications. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applicants are cautioned that the ceiling for individual awards is $300,000. Applications exceeding the $300,000 threshold will be considered non-responsive and will not be eligible for funding under this announcement.

2. Cost Sharing or Matching

The grantee must provide at least 10 per cent of the total approved cost of the project. The total approved cost is the sum of the Federal share and the non-Federal share. Therefore, a project requesting $300,000 per budget period must include a match of at least $33,333 per budget period. Applicants should provide a letter of commitment verifying the actual amount of the non-Federal share of project costs.

The following example shows how to calculate the required 10% match amount for a $300,000 grant:

$300,000 (Federal share)

divided by .90 (100%−10%)

equals $333,333 (total project cost including match)

minus $300,000 (Federal share)

equals $33,333 (required 10% match)

The non-Federal share may be cash or in-kind contributions, although applicants are encouraged to meet their match requirements through cash contributions. If approved for funding, grantees will be held accountable for the commitment of non-Federal resources and failure to provide the required amount will result in a disallowance of unmatched Federal funds.

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applications that exceed the $300,000 ceiling will be considered non-responsive and will not be eligible for funding under this announcement.

IV. Application and Submission Information

1. Address To Request Application Package

ACYF Operations, The Dixon Group, ATTN: Children's Bureau, 118 Q Street, NE., Washington, DC 20002-2132; Telephone: (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application form Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check ‘New.’

In Item 10 of Form 424, clearly identify the Catalog of Federal Domestic Assistance (CFDA) program title and number for the program for which funds are being requested as stated at the end this funding opportunity announcement.

In Item 11 of Form 424, identify the single funding opportunity the application addresses.

In Item 12 of Form 424, identify the specific geographic area to be served.

In Item 14 of Form 424, identify Congressional districts of both the applicant and project.

2. Budget Information Non-Construction Programs (Form 424A) and Budget Justification.

Follow the instructions provided and those in the Uniform Project Description. Note that Federal funds provided to States and services or other resources purchased with Federal funds may not be used to match project grants.

3. Certifications/Assurances. Applicants requesting financial assistance for nonconstruction projects must file the Standard Form 424B, “Assurances: Non-Construction Programs.” Applicants must sign and return the Standard Form 424B with their applications. Applicants must provide a certification regarding lobbying when applying for an award in excess of $100,000. Applicants must sign and return the certification with their applications.

A duly authorized representative of the applicant organization must certify that the applicant is in compliance with the Pro-Children Act of 1994 (Certification Regarding Environmental Tobacco Smoke).

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Adoption Opportunities program applicants are not required to submit their applications to Single Points of Contact (SPOC).

By signing the “Signature of Authorized Representative” on the SF 424, the applicant is providing a certification and need not mail assurances for completing the following grant and cooperative agreement requirements:

1. The applicant will have the project fully functioning 90 days of the notification of the grant award.

2. The applicant will participate if the Children's Bureau chooses to do a national evaluation or a technical assistance contract that relates to this priority area.

3. All reports will be submitted in a timely manner, in recommended format (to be provided), and the final report will also be submitted on disk or electronically using a standard word-processing program.

4. Within 90 days of project end date, the applicant will submit a copy of the final report, the evaluation report, and any program products to the National Adoption Information Clearinghouse, 330 C Street, SW., Washington, DC 20447. This is in addition to the standard requirement that the final program and evaluation report must also be submitted to the Grants Management Specialist and the Federal Project Officer.

5. Allocate sufficient funds in the budget to:

a. Provide for the project director and evaluator to attend an annual 3-day grantees' meeting in Washington, DC.

b. Provide for the project director and evaluator to attend an early kickoff meeting for grantees funded under this priority area to be held within the first three months of the project (first year only) in Washington, DC.

c. Provide for 10-15 percent of the proposed budget to project evaluation.

The Office for Human Research Protections of the U.S. Department of Health and Human Services provides website information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable DHHS regulations can be found in 45 CFR part 74 or 92.

4. Project Abstract/Summary (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this funding opportunity announcement providing information that addresses all the components.

6. Proof of non-profit status (if applicable). Any non-profit organization submitting an application must submit proof of its non-profit status in its application at the time of submission. Any of the following constitutes acceptable proof of such status:

a. A reference to the applicant organization's listing in the Internal Revenue Service's (IRS) most recent list of tax-exempt organizations described in the IRS Code.

b. A copy of a currently valid IRS tax exemption certificate.

c. A statement from a State taxing body, State attorney general, or other appropriate State official certifying that the applicant organization has a non-profit status and that none of the net earning accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 80 pages total including all forms and attachments. Submit one original and two copies.

To be considered for funding, each application must be submitted with the Standard Federal Forms (provided at the end of this announcement or through the electronic links provided) following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures, signed in black ink.

Applicants have the option of omitting from the application copies (not the original) specific salary rates or amounts for individuals specified in the application budget and Social Security Numbers if otherwise required for individuals. The copies may include summary salary information.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting form application copies (not originals) specific salary rates or amounts for individuals specified in the application budget. The copies may include summary salary information.

Private non-profit organizations are encouraged to submit with their applications the survey located under “Grant Related Documents and Forms” titled “Survey for Private, Non-Profit Grant Applicants” at www.acf.hhs.gov/programs/ofs/forms.htm

Please see Section V. 1. Criteria, for instructions on preparing the project summary/abstract and the full project description.

Tips for Preparing a Competitive Application: It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application: The specific evaluation criteria in Section V of this funding opportunity announcement will be used to review and evaluate each application. The applicant should address each of these specific evaluation criteria in the project description. It is strongly recommended that applicants organize their proposals in the same sequence and using the same headings as these criteria, so that reviewers can readily find information that directly addresses each of the specific review criteria.

Project Evaluation Plan: Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects: If your evaluation plan includes gathering data from or about clients, there are specific procedures which must be followed in order to protect their privacy and ensure the confidentiality of the information about them. Applicants planning to gather such data are asked to describe their plans regarding an Institutional Review Board (IRB) review. For more information about use of human subjects and IRB's you can visit these Web sites: http://ohrp.osophs.dhhs.gov/irb/irb_chapter2.htm#d2 and http://ohrp.osophs.dhhs.gov/humansubjects/guidance/ictips.htm.

3. Submission Dates and Times

The closing date for receipt of applications is 4:30 p.m. Eastern Standard Time (EST) on July 23, 2004. Mailed applications received after the closing date will be classified as late.

Deadline: Mailed applications shall be considered as meeting an announced deadline if they are received on or before July 23, 2004 the deadline date. Applications must be mailed to the following address: ACYF Operations, The Dixon Group, ATTN: Children's Bureau, 118 Q Street, NE., Washington, DC 20002-2132.

Applications hand-carried by applicants, applicant couriers, or by other representatives of the applicant shall be considered as meeting an announced deadline if they are received on or before the deadline date, between the hours of 8 a.m. and 4:30 p.m., EST, at ACYF Operations, The Dixon Group, ATTN: Children's Bureau, 118 Q Street, NE., Washington, DC 20002-2132, between Monday and Friday (excluding Federal holidays). This address must appear on the envelope/package containing the application with the note “ATTN: Children's Bureau.” Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms

What to submit | Required content | Required form or format | When to submit
1. SF424 | Per required form | May be found at http://www.acf.hhs.gov/programs/ofs/grants/form.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
3.d. Environmental Tobacco Smoke Certification | Per required form | May be found at http://www.acf.hhs.gov/programs/ofs/forms.htm | See application due date.
4. Project Summary/Abstract | Summary of application request | See instructions in this funding opportunity announcement | See application due date.
5. Project Description | Responsiveness to evaluation criteria | See instructions in this funding opportunity announcement | See application due date.
6. Proof of non-profit status | See above | See above | See application due date.
7. Indirect cost rate agreement | See above | See above | See application due date.
8. Letters of agreement & MOUs | See above | See above | See application due date.
9. Non-Federal share letter | See above | See above | See application due date.
Total application | See above | See above | See application due date.

Additional Forms

Private-non-profit organizations are encouraged to submit with their applications the additional survey located under “Grant Related Documents and Forms” titled “Survey for Private, Non-Profit Grant Applicants.”

What to submit | Required content | Required form or format | When to submit
Survey for Private, Non-Profit Grant Applicants | Per required form | May be found on http://www. acf.hhs.gov/programs/ofs/forms.htm | By application due date.

4. Intergovernmental Review

State Single Point of Contact (SPOC), Notification under Executive Order 12372.

Adoption Opportunities program applicants are not required to submit their applications to Single Points of Contact (SPOC).

5. Funding Restrictions

Grant awards will not allow reimbursement of pre-award costs. Construction is not an allowable activity or expenditure under this solicitation.

6. Other Submission Requirements

Submission by Mail: An applicant must provide an original application with all attachments, signed by an authorized representative and two copies. The application must be received at the address below by 4:30 p.m. Eastern Standard Time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. Eastern Standard Time on or before the closing date. Applications that are hand delivered will be accepted between the hours of 8 a.m. and 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132.

V. Application Review Information

The Paperwork Reduction Act of 1995 (Pub. L. 104-13)

Public reporting burden for this collection of information is estimated to average 40 hours per response, including the time for reviewing instructions, gathering and maintaining the data needed and reviewing the collection information. The project description is approved under OMB control number 0970-0139. An agency may not conduct or sponsor, and a person is not required to respond to, a collection of information unless it displays a currently valid OMB control number.

Instruction

Introduction

Applicants required to submit a full project description shall prepare the project description statement in accordance with the following instructions and the specified evaluation criteria. The instructions give a broad overview of what your project description should include while the evaluation criteria expands and clarifies more program-specific information that is needed.

1. Criteria

General Instruction for Preparing Full Project Description

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the applicant demonstrates an understanding of the goals and objectives of the Adoption Opportunities legislation. This includes the extent to which the proposed project will contribute to achieving those goals and objectives, including goals stated in the purpose and background sections of this funding opportunity announcement.

(2) The extent to which the applicant presents a clear vision of the service system for the target population, including a clear statement of the goals (end products of an effective project) and objectives (measurable steps for reaching these goals) of the proposed project. The extent to which these goals and objectives are based on a thorough understanding of the characteristics of the clients and the context of the proposed intervention.

(3) The extent to which the applicant demonstrates a thorough understanding of the characteristics of the target population, the service needs of this population and community, and the status of existing services for adopted children, adolescents and their families/caregivers.

(4) The extent to which the applicant's review of the literature is comprehensive and reflects a clear understanding of the research on best practices and promising approaches in post-adoption services and marriage education. This includes the extent to which the review of literature provides evidence that the proposed project is innovative and, if successfully implemented and evaluated, likely to yield findings or results that will contribute to and promote evidence-based practices that will be useful to other agencies and organizations in developing effective services and programs to address the issues effectively.

Criterion 2. Approach

In reviewing the approach, the following factors will be considered: (50 points)

(1) The extent to which the applicant provides a reasonable timeline for implementing the proposed project, including major milestones and target dates. The extent to which the applicant describes the factors that could speed or hinder project implementation, and explains how these factors would be managed.

(2) The extent to which there is a detailed description of the services to be provided by the program. The extent to which this program will bridge gaps or substantially improve the current service delivery system and benefit the target population. The extent to which the proposed services are comprehensive in scope, will address a broad range of the target population's needs, and include services identified in the purpose and background sections of this funding announcement.

(3) The extent to which the design of the proposed project is evidence-based, reflects up-to-date knowledge from the research and literature on known effective practices, and builds on current theory, research, evaluation data and best practices. The extent to which the project will contribute to increased knowledge or understanding of the problem, issues, or effective strategies and practices in the field. The extent to which the logic model for this project demonstrates strong links between proposed inputs and activities, and intended short-term and long-term outcomes. The extent to which the logic model clearly shows how the achievement of these outcomes would be measured.

(4) The extent to which the project will be culturally responsive to the target population.

(5) The extent to which the proposed services will involve the collaboration of appropriate partners for maximizing the effectiveness of service delivery. The extent to which there are letters of commitment or memoranda of understanding from organizations, agencies, and consultants that will be partners or collaborators in the proposed project. The extent to which these documents describe the role of the agency, organization, or consultant and detail specific tasks to be performed.

(6) The extent to which there is a sound plan for effectively evaluating the achievement of the project's objectives, customer satisfaction, processes, outcomes, impact, the effectiveness of project strategies and the efficiency of the implementation process. The extent to which there is a reasonable plan for securing an external evaluator, if not using internal resources for project evaluation.

(7) The extent to which the methods of evaluation include the use of objective performance measures that are clearly related to the intended outcomes of the project and will produce quantitative and qualitative outcome data. The extent to which the proposed evaluation plan would be likely to yield findings or results about effective strategies, and contribute to and promote evaluation research and evidence-based practices that could be used to guide replication or testing in other settings.

(8) The extent to which useful data on individuals and families, types of services provided, services used, and types and nature of needs identified and met will be effectively collected. The extent to which there is a sound plan for an Institutional Review Board (IRB) review, if applicable.

(9) The extent to which the products that would be developed during the proposed project would provide information on strategies utilized and the outcomes achieved that would support evidence-based improvements of practices in the field. The extent to which the plan for developing and disseminating these products is reasonable and appropriate in scope and budget.

(10) The extent to which the intended audience (e.g., researchers, policymakers, and practitioners) for product dissemination is appropriate to the goals of the proposed project. The extent to which the project's products would be useful to each of these audiences. The extent to which there is a sound plan for effectively disseminating information, through appropriate mechanisms and forums, that will successfully convey the information to, and support replication by, other interested agencies.

Criterion 3. Organizational Profiles

In reviewing the organizational profiles, the following factors will be considered: (20 points)

(1) The extent to which the applicant organization and any partnering organizations collectively have sufficient experience and expertise in developing, implementing, and evaluating innovative projects, programs, or service delivery systems in the post-adoption and marriage education fields.

(2) The extent to which the applicant has sufficient organizational resources to implement and evaluate the proposed project effectively, including sufficient capacity for administration, program operations, data processing and analysis, reporting and dissemination of findings.

(3) The extent to which the applicant's proposed project director, key project staff, and consultants have the necessary technical skill, knowledge, and experience to carry out their responsibilities effectively, including administration, program operations, data collection and analysis, reporting and dissemination of findings. The extent to which current and proposed staff has the capacity to fill the described roles effectively. The extent to which the author of this proposal will be closely involved throughout the implementation of the proposed project.

(4) The extent to which the management plan details a realistic approach to achieving the objectives of the proposed project on time and within budget. The extent to which this plan includes clearly defined responsibilities timelines and benchmarks for accomplishing project tasks. The extent to which there would be a mutually beneficial relationship between the proposed project and other work planned, anticipated or underway with Federal assistance by the applicant.

Criterion 4. Budget and Budget Justification

In reviewing the budget and budget justification, the following factors will be considered: (10 points)

(1) The extent to which the applicant demonstrates that the project cost and budget information submitted on the standard 424 and 424A for the proposed program are reasonable and justified in terms of the proposed tasks and anticipated outcomes. The extent to which fiscal controls and accounting procedures are in place to ensure prudent use, proper and timely disbursement, and accurate accounting of funds received under this program announcement.

(2) The extent to which the applicant documents allocation of sufficient funds in the budget to:

a. Provide for the project director and evaluator to attend an annual 3-day grantees' meeting in Washington, DC.

b. Provide for the project director and evaluator to attend an early kickoff meeting for grantees funded under this priority area to be held within the first three months of the project (first year only) in Washington, DC.

c. Provide for 10-15 percent of the proposed budget to project evaluation.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

Available Funds: Applicants should note that grants to be awarded under this program announcement are subject to the availability of funds. The size of the actual awards will vary. The Federal government may elect to fund applications in FY 2005 out of the pool of applications submitted under this announcement, subject to the availability of resources in FY 2005 and the number of acceptable applications received.

VI. Award Administration Information

1. Award Notices

Anticipated Announcement and Award Dates: Applications will be reviewed summer 2004. Grant awards will have a start date no later than September 30, 2004.

Award Notices: Successful applicants will receive a Financial Assistance Award which will set forth the amount of funds granted, the terms and conditions of the grant or cooperative agreement, the effective date of the grant, the budget period for which initial support will be given, the non-Federal share to be provided, if applicable, and the total project period for which support is contemplated. The financial Assistance Award will be signed by the Grants Officer and transmitted via postal mail.

The Commissioner will notify organizations in writing when their applications will not be funded. Every effort will be made to notify all unsuccessful applicants as soon as possible after final decisions are made.

2. Administrative and National Policy Requirements

Grantees are subject to the requirements of 45 CFR part 74 (nongovernmental) or 45 CFR part 92 (governmental).

3. Reporting

Reporting Requirements: All grantees are required to submit semi-annual program and financial reports (SF269) with a final report due 90 days after the project end date.

All required reports will be submitted in a timely manner, in recommended formats (to be provided), and the final report will also be submitted on disk or electronically using a standard word-processing program.

Within 90 days of project end date, the applicant will submit a copy of the final report, the evaluation report, and any program products to the National Adoption Information Clearinghouse, 330 C Street, SW., Washington, DC 20447. This is in addition to the standard requirement that the final program and evaluation report must also be submitted to the Grants Management Specialist and the Federal Project Officer.

VII. Agency Contacts

Program Office Contact

Geneva Ware-Rice, 330 C St, SW., Washington, DC 20447, 202-205-8354, gware-rice@acf.hhs.gov.

Grants Management Office Contact

William Wilson, 330 C St SW., 20447, Washington, DC, 202-205-8913, wwilson@acf.hhs.gov.

General

The Dixon Group, ACYF Operations Center, 118 Q Street, NE., Washington, DC 20002-2132, Telephone: (866) 796-1591.

VIII. Other Information

Additional information about this program and its purpose can be located on the following websites: http://www.acf.hhs.gov/programs/cb/.

Dated: May 18, 2004.
Joan E. Ohl,
Commissioner, Administration on Children, Youth and Families.

[FR Doc. 04-11645 Filed 5-21-04; 8:45 am]

BILLING CODE 4184-01-P